DEPARTMENT OF AGRICULTURE

Food Safety and Inspection Service

[Docket No. FSIS-2013-0006]

Codex Alimentarius Commission: Meeting of the Codex Committee on Food Additives

AGENCY: Office of the Under Secretary for Food Safety, USDA.

ACTION: Notice of public meeting and request for comments.

SUMMARY: The Office of the Acting Under Secretary for Food Safety, U.S. Department of Agriculture (USDA), and the Food and Drug Administration (FDA), U.S. Department of Health and Human Services, is sponsoring a public meeting on February 11, 2013, from 9:00 a.m. to 12:00 p.m. The objective of the public meeting is to provide information and receive public comments on agenda items and draft United States (U.S.) positions that will be discussed at the 45th Session of the Codex Committee on Food Additives (CCFA) of the Codex Alimentarius Commission (Codex), which will be held in Beijing, China March 18-22, 2013. USDA and FDA recognize the importance of providing interested parties the opportunity to obtain background information on the 45th Session of the CCFA and to address items on the agenda.

DATES: The public meeting is scheduled for Monday, February 11, 2013, from 9:00 a.m. to 12:00 p.m.

ADDRESSES: The public meeting will be held in Rooms 1A-001 and 1A-002, US FDA, Harvey Wiley Federal Building, 5100 Paint Branch Parkway, College Park, MD 20740.

Documents related to the 45th Session of the CCFA will be accessible via the World Wide Web at the following address: http://www.codexalimentarius.net/current.asp.

The U.S. Delegate to the 45th Session of the CCFA, Susan Carberry, USDA and FDA, invite interested U.S. parties to submit their comments electronically to the following email address: ccfa@fda.hhs.gov.

REGISTRATION: Attendees may register by emailing ccfa@fda.hhs.gov by February 6, 2013. Early registration is encouraged because it will expedite entry into the building and its parking area. If you require parking, please include the vehicle make and tag number when you register. Because the meeting will be held in a Federal building, you should also bring photo identification and plan for adequate time to pass through security screening systems. Attendees who are not able to attend the meeting in-person but wish to participate may do so by phone. Those wishing to participate by phone should request the call-in number and conference code when they register for the meeting.

For further information about the 45th Session of the CCFA contact: Susan Carberry, Ph.D., Supervisory Chemist, Division of Petition Review, Office of Food Additive Safety, Center for Food Safety and Applied Nutrition CFSAN/FDA, HFS-205, 5100 Paint Branch Parkway, College Park, MD 20740, Telephone: (240) 402-1269, Fax: (301) 436-2972, email: susan.carberry@fda.hhs.gov.

For Further Information about the Public Meeting Contact: Daniel E. Folmer, Ph.D., Review Chemist, Division of Petition Review, Office of Food Additive Safety, CFSAN/FDA HFS-265, 5100 Paint Branch Parkway, College Park, MD 20740, Telephone: (240) 402-1269, Fax: (301) 436-2972, email: daniel.folmer@fda.hhs.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCFA establishes or endorses acceptable maximum levels for individual food additives; prepares priority lists of food additives for risk assessment by the Joint FAO/WHO Expert Committee on Food Additives (JECFA); assigns functional classes and International Numbering System (INS) numbers to individual food additives; recommends specifications of identity and purity for food additives for adoption by Codex; considers methods of analysis for the determination of additives in food; and considers and elaborates standards or codes for related subjects such as labeling of food additives when sold as such. The CCFA is hosted by China.

Issues To Be Discussed at the Public Meeting

The following items on the agenda for the 45th Session of the CCFA will be discussed during the public meeting:

• Matters referred by Codex and other Codex Committees and Task Forces. (CX/FA 13/45/2).

• Matters of interest arising from FAO/WHO and from the 76th Meeting of the Joint FAO/WHO Expert Committee on Food Additives (JECFA). (CX/FA 13/45/3).

• Endorsement and/or revision of maximum levels for food additives and processing aids in Codex standards. (CX/FA 13/45/4).

• Application of the decision-tree on the alignment of the food additive provisions of commodity standards and relevant provisions of the GSFA. (CX/FA 13/45/5)

• Discussion paper on the revision of the Guidelines for the Evaluation of Food Additive Intakes (CAC/GL 3-1989). (CX/FA 13/45/6).

• Provisions in Tables 1 and 2 for food additives listed in Table 3 with “acidity regulator” function and horizontal approach for provisions in Tables 1 and 2 for food additives listed in Table 3 with “emulsifier, stabilizer and thickener” function. (CX/FA 13/45/7).

• Provisions for aluminum containing food additives of the GSFA. (CX/FA 13/45/8).

• Proposed draft food additive provisions for aspartame-acesulfame salt (INS 962) (replies to CL 2012/5-FA Part B, point 7). (CX/FA 13/45/9).

• New proposals for the use of nisin (INS 234) in food category 08.0 “Meat and meat products, including poultry and game” (replies to CL 2012/5-FA Part B, point 8). (CX/FA 13/45/10).

• Proposals for new additive provisions in food category 16.0 “Prepared foods” (replies to CL 2012/5-FA Part B, point 9). (CX/FA 13/45/11).

• Proposals for new additive provisions and/or revision of food additive provisions of the GSFA (replies to CL 2012/5-FA Part B, point 10). (CX/FA 13/45/12).

• Proposals for application of Note 188 to provisions for acesulfame potassium (INS 950) and Note 191 to provisions for aspartame (INS 951). (CX/FA 13/45/13).

• Proposals for Changes and/or Addition to the International Numbering System for Food Additives. (CX/FA 13/45/14).

• Specifications for the Identity and Purity of food additives arising from the 76th JECFA Meeting. (CX/FA 13/45/15).

• Proposals for additions and changes to the Priority List of Food Additives proposed for evaluation by JECFA (replies to CL 2012/8-FA) (CX/FA 13/45/16).

• Proposed prioritized list of colors for re-evaluation by JECFA. (CX/FA 13/45/17).

• Database on processing aids—criteria for entry of substances in the database (CX/FA 13/45/18).

• Discussion paper on recommendations for Note 161 of the GSFA (CX/FA 13/45/19).

Each issue listed will be fully described in documents distributed, or to be distributed, by the Secretariat prior to the meeting. Members of the public may access these documents at ftp://ftp.fao.org/codex/meetings/CCFA/CCFA45.

Public Meeting

At the February 11, 2013, public meeting, draft U.S. positions on the agenda items will be described and discussed, and attendees will have the opportunity to pose questions and offer comments. Written comments may be offered at the meeting or sent to the U.S. Delegate for the 45th Session of the CCFA, Dr. Susan Carberry at the following address: ccfa@fda.hhs.gov. Written comments should state that they relate to activities of the 45th Session of the CCFA.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/.

Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC, on: January 30, 2013.
MaryFrances Lowe,
U.S. Manager for Codex Alimentarius.

[FR Doc. 2013-02470 Filed 1-31-13; 4:15 pm]

BILLING CODE 3410-DM-P